DEPARTMENT OF THE INTERIOR

Bureau of Land Management

[UTU 42911 and UTU 42915]

Public Land Order No. 7698; Modification of Secretarial Orders Dated July 6, 1925 and April 1, 1941; Utah

AGENCY: Bureau of Land Management, Interior.

ACTION: Public land order.

SUMMARY: This order establishes a 20-year term for two Secretarial Orders which withdrew lands from surface entry and mining and reserved them on behalf of the Bureau of Reclamation for the Salt Lake Basin and Gooseberry Projects. The lands, which currently aggregate approximately 6,768 acres after a previous partial revocation, are still needed for the purpose for which they were withdrawn. The lands will remain withdrawn from surface entry and mining but not from mineral and geothermal leasing or mineral material sales.

EFFECTIVE DATE: March 31, 2008.

FOR FURTHER INFORMATION CONTACT: Rhonda Flynn, BLM Utah State Office, 440 West 200 South, Suite 500, Salt Lake City, Utah 84101-1345, 801-539-4132.

SUPPLEMENTARY INFORMATION: The Bureau of Reclamation has determined that the lands are still needed for reclamation purposes. The lands will remain withdrawn from surface entry and mining but not from mineral and geothermal leasing or mineral material sales. The April 1, 1941 Secretarial Order was partially revoked by Public Land Order No. 5040. A copy of the pertinent orders containing legal descriptions of the lands involved is available from the Bureau of Land Management, Utah State Office at the address above.

Order

By virtue of the authority vested in the Secretary of the Interior by section 204 of the Federal Land Policy and Management Act of 1976, 43 U.S.C. 1714 (2000), it is ordered as follows:

The Secretarial Orders dated July 6, 1925 and April 1, 1941, which withdrew lands from surface entry and mining and reserved them on behalf of the Bureau of Reclamation for the Salt Lake Basin and Gooseberry Projects, are hereby modified to expire 20 years from the effective date of this order unless, as a result of a review conducted before the expiration date pursuant to Section 204(f) of the Federal Land Policy and Management Act of 1976, 43 U.S.C. 1714(f) (2000), the Secretary determines that the withdrawals shall be extended.

Dated: March 20, 2008.
C. Stephen Allred,
Assistant Secretary—Land and Minerals Management.

[FR Doc. E8-6583 Filed 3-28-08; 8:45 am]

BILLING CODE 4310-MN-P